DEPARTMENT OF JUSTICE

National Institute of Corrections

Solicitation for a Cooperative Agreement—Two Hearings of the National Institute of Corrections Advisory Board

AGENCY: National Institute of Corrections, U.S. Department of Justice.

ACTION: Solicitation for a cooperative agreement.

SUMMARY: The National Institute of Corrections (NIC) is soliciting proposals from organizations, groups, or individuals to enter into a cooperative agreement for a 12-month period to begin no later than September 1, 2011. Work under this cooperative agreement will involve organizing two hearings of the NIC Advisory Board. The hearings will assist the Board in providing directions to NIC and the corrections field on the subject of organizational culture (hearing #1) and cost containment (hearing #2). The first hearing will be held on November 2-3, 2011 in San Diego, California. The second hearing will be held in April or May 2012 in Aurora, Colorado (note that the site for hearing #2 will be the National Correctional Academy in Aurora, Colorado).

DATES: Applications must be received by 4 p.m. (EDT) on Wednesday, August 10, 2011. Selection of the successful applicant and notification of review results to all applicants will be made by September 1, 2011.

ADDRESSES: Mailed applications must be sent to Director, National Institute of Corrections, 320 First Street, NW., Room 5002, Washington, DC 20534. Applicants are encouraged to use Federal Express, UPS, or similar service to ensure delivery by the due date.

Hand delivered applications should be brought to 500 First Street, NW., Washington, DC 20001. At the front desk, call (202)307-3106, extension 0 for pickup.

Faxed or e-mailed applications will not be accepted. Electronic applications can be submitted via http://www.grants.gov.

FOR FURTHER INFORMATION CONTACT: A copy of this announcement can be downloaded from the NIC Web site at http://www.nicic.gov/cooperativeagreements.

All technical or programmatic questions concerning this announcement should be directed to Sherry Carroll. She can be reached by e-mail at scarroll@bop.gov.

SUPPLEMENTARY INFORMATION: The recipient of the award under this cooperative agreement will organize and coordinate all logistical details for two hearings of the NIC Advisory Board. All expenses for these two hearings, expected to last up to two days with up to 25 invited witnesses, will be provided out of the funding awarded under this agreement. Witnesses for each meeting will be identified by NIC, and the location of the meetings will be in San Diego, California, and Aurora, Colorado. The recipient will also make arrangements for lodging for up to 15 members of the NIC advisory board and up to 10 NIC staff members, but will not be responsible for the Board or NIC staff travel, lodging, or per diem costs. Arrangements should allow for up to 25 observers who will attend the hearings at their own expense, including Federal and state officials, the media, or other guests, to be accommodated. The recipient will not be required to coordinate travel or lodging for observers.

The recipient of this award will assist NIC in locating an appropriate venue and coordinating local arrangements, including a meeting room to accommodate up to 75 people, food, and beverage services, at the site. The recipient will assist the 25 witnesses in each of the two hearings in arranging travel, lodging, and reimbursing costs in conformity with Federal guidelines. Some witnesses or presenters may also be eligible to receive compensation for their participation, which may be in the form of a white paper or presentation (up to $10,000 total for both hearings should be budgeted for this expense).

With input from NIC, the recipient will prepare each hearing's agenda, participant lists, white papers, handouts, and supplementary materials; provide electronic copies to NIC communications staff; duplicate hard copy versions in sufficient quantities; and deliver them to the venue. With input from NIC, the participant will prepare and distribute a press release concerning the event, prepare press kits, and facilitate coverage of the hearings by national media outlets, including newspaper, radio, television, and Web-based news organizations. The recipient will arrange for or supply all audio-visual equipment necessary for hearing #1. The recipient will also make the necessary arrangements to record the proceedings, either by audio or video, and with a note taker for each meeting.

In addition to providing staff on site for each of the two hearings, the recipient should also budget for up to four, one-day planning sessions with NIC Advisory Board members and NIC staff to take place in Washington, DC, or Aurora, Colorado, during the award period.

Deliverables: By the end of the project, the recipient of this award will deliver the following products: (1) Detailed notes of the proceedings of each hearing delivered within 30 days of the event; (2) Each of the white papers produced for the meetings, edited to be suitable for distribution to corrections practitioners and delivered in NIC's standard format; and (3) A summary report providing an overview of the meetings, their major themes, and any recommendations for the field.

Required Expertise: Successful applicants should have the organizational capacity to complete all the tasks listed above, including demonstrated experience in organizing meetings of the size and type described, working closely with the media, and facilitating hearing coverage. Preference will also be given to applicants with a record of working with similar subject matter expert groups in government or criminal justice.

Application Requirements: Applications should be concisely written, typed double spaced and reference the “NIC Opportunity Number” and Title provided in this announcement. Please limit the program narrative text to 20 double spaced, numbered pages. The application package must include: a cover letter that identifies the audit agency responsible for the applicant's financial accounts as well as the audit period or fiscal year that the applicant operates under (e.g., September 1, 2011 through June 30, 2012), a program narrative responding to the requirements in this announcement, a description of the qualifications of the applicant(s), an outline explaining projected costs, and the following forms: OMB Standard Form 424, Application for Federal Assistance, OMB Standard Form 424A, Budget Information—Non Construction Programs, OMB Standard Form 424B, Assurances—Non Construction Programs (these forms are available at http://www.grants.gov) and DOJ/NIC Certification Regarding Lobbying; Debarment, Suspension and Other Responsibility Matters; and Drug-Free Workplace Requirements (available at http://www.nicic.org/Downloads/PDF/certif-frm.pdf).

Applications may be submitted in hard copy, or electronically via http://www.grants.gov. If submitted in hard copy, there must be one, unbound original plus three copies of the full proposal (program and budget narratives, application forms and assurances). The original should have the applicant's signature in blue ink.

Authority: Public Law 93-415.

Funds Available: Up to $100,000 is available for this project, subject to available funding, but preference will be given to applicants who provide the most cost efficient solutions in accomplishing the scope of work. Determination will be made based on best value to the government, not necessarily the lowest bid. Funds may be used only for the activities that are directly related to the project.

Eligibility of Applicants: An eligible applicant is any public or private agency, educational institution, organization, individual or team with expertise in the described areas.

This project will be a collaborative venture with the NIC Administration Division.

Review Considerations: Applications received under this announcement will be subject to the NIC Review Process. The criteria for the evaluation of each application will be as follows:

Organizational (75%)

Does the applicant have the necessary capacity and staff with the skills, knowledge, and expertise to demonstrate a high level of competency to carry out the tasks? Are the proposed project management and staffing plans realistic and sufficient to complete the project? Has the organization had past experience in organizing similar events in government or the criminal justice area?

Budget (25%)

Is the proposed budget realistic? Does it provide sufficient cost detail/narrative and represent good value relative to the anticipated results? Is there evidence that the applicant has proposed the most cost effective way of performing the work? Are there any innovative strategies proposed to contain costs?

Note: NIC will NOT award a cooperative agreement to an applicant unless they have a Dun and Bradstreet Database Universal Number (DUNS) and are registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and work sheet can also be reviewed at the Web site.

Publications produced under this award must follow the “Guidelines for Preparing and Submitting Manuscripts for Publication” as found in the General Guidelines for Cooperative Agreements which will be included in the award package.

Number of Awards: One.

NIC Opportunity Number: 11AD11. This number should appear as a reference line in the cover letter, where the opportunity number is requested on the Standard Form 424, and outside of the envelope in which the application is sent.

Catalog of Federal Domestic Assistance Number: 16.602.

Executive Order 12372: This program is not subject to the provisions of Executive Order 12372.

Morris L. Thigpen,
Director, National Institute of Corrections.

[FR Doc. 2011-19223 Filed 7-28-11; 8:45 am]

BILLING CODE 4410-36-P